DEPARTMENT OF LABOR

Employment and Training Administration

Notice of a Change in Status of an Extended Benefit (EB) Period for Louisiana

This notice announces a change in benefit period eligibility under the EB Program for Louisiana.

Summary: The following change has occurred since the publication of the last notice regarding the State's EB status:

• Louisiana's 13-week insured unemployment rate for the week ending February 4, 2006, fell below the 5.0 percent threshold causing Louisiana's EB period that began October 30, 2005, to trigger “off” effective February 25, 2006.

Information for Claimants

The duration of benefits payable in the EB Program, and the terms and conditions on which they are payable, are governed by the Federal-State Extended Unemployment Compensation Act of 1970, as amended, and the operating instructions issued to the states by the U.S. Department of Labor. In the case of a state ending an EB period, the State Workforce Agency will furnish a written notice to each individual who is currently filing a claim for EB of the forthcoming end of the EB period and its effect on the individual's rights to EB (20 CFR 615.13 (c)(4)).

Signed at Washington, DC, on March 3, 2006.
Emily Stover DeRocco,
Assistant Secretary of Labor for Employment and Training.

[FR Doc. E6-4124 Filed 3-21-06; 8:45 am]

BILLING CODE 4510-30-P